DEPARTMENT OF ENERGY

Federal Energy Regulatory Commission

[Docket No. RM01-5-000]

Electronic Tariff Filings; Notice of Availability of Company Registration and Technical Conference

October 23, 2009.

In Order No. 714,¹ the Commission adopted regulations requiring that tariff and tariff related filings must be made electronically. One of the required data elements to make the electronic filing is a unique Company Identifier provided by the Commission. As of November 9, 2009, companies should be able to request a Company Identifier by using the Company Registration application located at the FERC Online Web site: http://www.ferc.gov/docs-filing/ferconline.asp.

¹ Electronic Tariff Filings, Order No. 714, 73 FR 57,515 (Oct. 3, 2008), 124 FERC ¶ 61,270, FERC Stats. & Regs [Regulations Preambles] ¶ 31,276 (2008) (Sept. 19, 2008).

Take notice that on November 20, 2009, from 9 a.m. to 12 noon (EST), a technical conference will be held to discuss the Company Registration and other issues. This conference will cover the data required to complete a request for a Company Identifier, a review of the FERC Online Company Registration application, Commission docketing under eTariff, the eLibrary rendition of eTariff metadata, the type of filing code to be used to establish official filing type. In addition, time permitting, participants will be free to ask questions about other issues related to electronic tariff filings.

The technical conference is open to the public. The conference will be held at the Federal Energy Regulatory Commission, 888 First Street, NE., Washington, DC 20426. In addition, the conference will be accessible via telephone. Staff anticipates posting any documents that may be referenced during the conference on the eTariff Web site so that they will be accessible to those using the telephone.

FERC conferences are accessible under section 508 of the Rehabilitation Act of 1973. For accessibility accommodations please send an e-mail to accessibility@ferc.gov or call toll free (866) 208-3372 (voice) or (202) 502-8659 (TTY), or send a fax to (202) 208-2106 with the required accommodations.

The telephone number for the conference will be posted on http://www.ferc.gov/docs-filing/etariff.asp and an RSS alert of the posting will be issued. No preregistration is required.

For more information, contact Keith Pierce, Office of Energy Market Regulation at (202) 502-8525 or send an e-mail to ETariff@ferc.gov.

Kimberly D. Bose,
Secretary.

[FR Doc. E9-26234 Filed 10-30-09; 8:45 am]

BILLING CODE 6717-01-P